DEPARTMENT OF HOUSING AND URBAN DEVELOPMENT

[Docket No. FR-5037-N-31]

Notice of Submission of Proposed Information Collection to OMB; Emergency Comment Request Emergency Preparedness Plan Survey

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

DATES: Comments Due Date: June 21, 2006.

ADDRESSES: Interested persons are invited to submit comments regarding this proposal. Comments must be received within fourteen (14) days from the date of this Notice. Comments should refer to the proposal by name/or OMB approval number and should be sent to: Maurice Champagne, HUD Desk Officer, Office of Management and Budget, New Executive Office Building, Washington, DC 20503; e-mail: Maurice_B._Champagne@omb.eop.gov; fax: 202-395-6974.

FOR FURTHER INFORMATION CONTACT: Lillian L. Deitzer, Reports Management Officer, QDAM, Department of Housing and Urban Development, 451 Seventh Street, SW., Washington, DC 20410; e-mail Lillian_L_Deitzer@HUD.gov; telephone (202) 708-2374. This is not a toll-free number. Copies of available documents submitted to OMB may be obtained from Ms. Deitzer.

SUPPLEMENTARY INFORMATION: This Notice informs the public that the U.S. Department of Housing and Urban Development (HUD) has submitted to OMB, for emergency processing, an information collection package with respect to The Emergency Preparedness Plan Survey. The Emergency Preparedness Plan Survey will be used by HUD to determine the degree of readiness for public housing agencies (PHAs) and Tribe/Tribally Designated Housing Entities (TDHEs) in the case of a natural disaster. HUD will provide pertinent information and technical assistance to establish viable and executable Emergency Preparedness Plans to PHAs and Tribes/TDHEs.

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This notice also lists the following information:

Title of Proposal: Emergency Preparedness Plan Survey.

Description of Information Collection: The Emergency Preparedness Plan Survey will be used by HUD to determine the degree of readiness for public housing agencies (PHAs) and Tribe/Tribally Designated Housing Entities (TDHEs) in the case of a natural disaster. HUD will provide pertinent information and technical assistance to establish viable and executable Emergency Preparedness Plans to PHAs and Tribes/TDHEs.

OMB Control Number: Pending.

Agency Form Numbers: None.

Members of Affected Public: Not-for-profit institutions, State, local or tribal government.

Estimation of the total numbers of hours needed to prepare the information collection including number of respondents, frequency of responses, and hours of response: An estimation of the total number of hours needed to prepare the information collection is 13,228, number of respondents is 4,810 frequency response is biennially, and the hours of response is 2.75.

Authority: The Paperwork Reduction Act of 1995, 44 U.S.C. Chapter 35, as amended.

Dated: June 1, 2006.
Lillian L. Deitzer,
Departmental Reports Management Officer, Office of the Chief Information Officer .

[FR Doc. E6-8841 Filed 6-6-06; 8:45 am]

BILLING CODE 4210-67-P